DEPARTMENT OF THE TREASURY

Comment Request for the Financial Literacy and Education Commission on the Draft National Strategy, Entitled National Strategy for Financial Literacy 2010

AGENCY: Department of the Treasury.

ACTION: Request for comment.

SUMMARY: In 2003 Congress established the Financial Literacy and Education Commission (Commission) through passage of the Financial Literacy and Education Improvement Act under Title V of the Fair and Accurate Credit Transactions Act of 2003. Congress designated Treasury's Office of Financial Education to lend its expertise and provide primary support to the Commission, which is chaired by the Secretary of the Treasury. Additionally, Congress charged the Commission to “improve the financial literacy and education of persons in the United States through development of a national strategy to promote financial literacy and education.” On behalf of the Commission, the Department of the Treasury invites public comment on the draft National Strategy for Financial Literacy 2010.

DATES: Comments must be received on or before September 19, 2010 to be considered.

Submission of Written Comments: Written comments should be sent by any one of the following methods:

Electronic Comments

E-mail FLECstrategy@do.treas.gov; or

Paper Comments

Send paper comments to the Department of the Treasury, Office of Financial Education, 1500 Pennsylvania Avenue, NW., Washington, DC 20220.

In general, the Department will make all comments available in their original format, including any business or personal information provided such as names, addresses, e-mail addresses, or telephone numbers, for public inspection and photocopying in the Department's library, Room 1428, Main Department Building, 1500 Pennsylvania Avenue, NW., Washington, DC 20220, on official business days between the hours of 10 a.m. and 5 p.m. You can make an appointment to inspect comments by calling (202) 622-0990. All comments received, including attachments and other supporting materials, are part of the public record and subject to public disclosure. You should only submit information that you wish to make publicly available.

FOR FURTHER INFORMATION CONTACT: For additional information, contact Dubis Correal by e-mail at ofe@do.treas.gov or by telephone at (202) 622-5770 (not a toll free number). Additional information regarding the Commission and the Department of the Treasury's Office of Financial Education may be obtained through the Office of Financial Education's Web site at www.treasury.gov/financialeducation.

SUPPLEMENTARY INFORMATION: In 2006, the Commission released its first National Strategy for Financial Literacy. In July 2009, the Commission set up a new working group which undertook a comprehensive and inclusive process that included reviewing strategic documents from other nations and other agencies, as well as reaching out for input to a wide range of stakeholders in the field of financial education. The National Strategy is meant to provide a broad strategic overview for the financial literacy and education field. The working group identified five action areas—policy, education, practice, research, and coordination. The working group's next steps will focus on implementation of the National Strategy and how different types of organizations might integrate the National Strategy into their work.

Before the draft National Strategy is finalized, the Department of the Treasury, on behalf of the Commission, seeks public comment on the draft National Strategy. Please go to http://www.treasury.gov/financialeducation to view the current draft National Strategy (in both English and Spanish). Comments are specifically requested on one or more of the following questions:

From your organization's perspective:

(1) Do you agree with the vision statement? Yes or no? If no, what are your suggestions?

(2) Do you agree with the mission statement? Yes or no? If no, what are your suggestions?

(3) Do you agree with the goal statements? Yes or no? If no, which goal statement(s) would you change and how?

(4) Do you agree with the objectives under each goal? Yes or no? If no, which objective(s) would you change and how?

(5) Which objectives are most relevant to your organization? What other objectives are missing?

(6) How would your organization implement the draft National Strategy? Please list three specific examples.

(7) What type of organization do you represent?

a. Public, federal government.

b. Public, state government.

c. Public, local government.

d. Not-for-profit.

e. Foundation.

f. Private/business.

g. Other (describe).

(8) Do you have any other comments on the draft National Strategy?

(9) If there is a need to contact you to discuss your comments further, what is the best way to reach you (not required)?

Please note responses should not be more than 600 characters per question.

Dated: August 26, 2010.
Rebecca H. Ewing,
Acting Executive Secretary, U.S. Department of the Treasury.

[FR Doc. 2010-21997 Filed 9-2-10; 8:45 am]

BILLING CODE 4810-25-P